DEPARTMENT OF TRANSPORTATION

Federal Railroad Administration

[Docket Number FRA-2015-0036]

Petition for Waiver of Compliance

In accordance with Part 211 of Title 49 of the Code of Federal Regulations (CFR), this provides the public notice that by a document dated February 27, 2015, the Union Pacific Railroad Company (UPRR) has petitioned the Federal Railroad Administration (FRA) for a waiver of compliance from certain provisions of the Federal railroad safety regulations contained at 49 CFR part 232—Brake System Safety Standards for Freight and Other Non-Passenger Trains and Equipment. Specifically, UPRR requests to extend the mileage limits specified for certain designated extended haul trains. See 49 CFR 232.213—Extended haul trains. FRA assigned the petition docket number FRA-2015-0036.

In its petition, UPRR requests relief allowing for the moderate extended movement of trains to operate beyond the 1,500 mile limit specified in section 232.213 (a list of the proposed extended haul trains is posted to the docket at FRA-2015-0036-0001 in Appendix A to UPRR's petition). UPRR states that the requested relief will ensure they continue to meet customer and national expectation for deliveries of coal, grain, intermodal and other commodities while safely allowing for improved fluidity with increased velocity. UPRR notes that similar relief was granted to BNSF Railway in docket number FRA-2006-24812. UPRR further states that its proposal will result in a moderate mileage increase of between 21 and 180 additional miles beyond the present 1,500 mile limit, which would involve less than 2 percent of UPRR daily train originations.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 23, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on June 1, 2015.
Ron Hynes,
Director of Technical Oversight.

[FR Doc. 2015-13848 Filed 6-5-15; 8:45 am]

BILLING CODE 4910-06-P